SECURITIES AND EXCHANGE COMMISSION

[Release No. 34-102377; File No. SR-ISE-2024-35]

Self-Regulatory Organizations; Nasdaq ISE, LLC; Notice of Designation of a Longer Period for Commission Action on a Proposed Rule Change To List and Trade Options on the iShares Ethereum Trust

February 7, 2025.

On July 22, 2024, Nasdaq ISE, LLC (“ISE”) filed with the Securities and Exchange Commission (“Commission”), pursuant to Section 19(b)(1) of the Securities Exchange Act of 1934 (“Act”) ¹ and Rule 19b-4 thereunder,² a proposed rule change to amend Options 4, Section 3, Criteria for Underlying Securities, to allow ISE to list and trade options on the iShares Ethereum Trust. The proposed rule change was published for comment in the Federal Register on August 12, 2024.³ The Commission received comment letters regarding the proposed rule change.⁴ On September 24, 2024, pursuant to Section 19(b)(2) of the Act,⁵ the Commission designated a longer period within which to approve the proposed rule change, disapprove the proposed rule change, or institute proceedings to determine whether to approve or disapprove the proposed rule change.⁶ On November 8, 2024, the Commission instituted proceedings pursuant to Section 19(b)(2)(B) of the Act ⁷ to determine whether to approve or disapprove the proposed rule change.⁸

¹ 15 U.S.C. 78s(b)(1).

² 17 CFR 240.19b-4.

³ See Securities Exchange Act Release No. 100661 (Aug. 6, 2024), 89 FR 65690.

⁴ Comment letters on the proposed rule change are available at https://www.sec.gov/comments/sr-ise-2024-35/srise202435.htm.

⁵ 15 U.S.C. 78s(b)(2).

⁶ See Securities Exchange Act Release No. 101154, 89 FR 79664 (Sep. 30, 2024). The Commission designated November 10, 2024, as the date by which the Commission shall approve or disapprove, or institute proceedings to determine whether to approve or disapprove, the proposed rule change.

⁷ 15 U.S.C. 78s(b)(2)(B).

⁸ See Securities Exchange Act Release No. 101571, 89 FR 90205 (Nov. 14, 2024).

Section 19(b)(2) of the Act ⁹ provides that, after initiating disapproval proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination. The proposed rule change was published for notice and comment in the Federal Register on August 12, 2024.¹⁰ February 8, 2025, is 180 days from that date. The Commission is extending the time period for approving or disapproving the proposed rule change for an additional 60 days. The Commission finds it appropriate to designate a longer period within which to issue an order approving or disapproving the proposed rule change so that it has sufficient time to consider the proposed rule change and the issues raised therein. Accordingly, the Commission, pursuant to Section 19(b)(2) of the Act,¹¹ designates April 9, 2025, as the date by which the Commission shall either approve or disapprove the proposed rule change (File No. SR-ISE-2024-35).

⁹ 15 U.S.C. 78s(b)(2).

¹⁰ See supra note 3.

¹¹ 15 U.S.C. 78s(b)(2).

For the Commission, by the Division of Trading and Markets, pursuant to delegated authority.¹²
¹² 17 CFR 200.30-3(a)(31).
Sherry R. Haywood,
Assistant Secretary.

[FR Doc. 2025-02553 Filed 2-12-25; 8:45 am]

BILLING CODE 8011-01-P